DEPARTMENT OF TRANSPORTATION

Federal Aviation Administration

14 CFR Part 97

[Docket No. 30295; Amdt. No. 2093]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matters incorporated by reference in the amendment is as follows:

For Examination

1. FAA Rules Docket, FAA Headquarters Building, 800 Independence Avenue, SW., Washington, DC 20591;

2. The FAA Regional Office of the region in which the affected airport is located; or

3. The Flight Inspection Area Office which originated the SIAP.

For Purchase

Individual SIAP copies may be obtained from:

1. FAA Public Inquiry Center (APA-200), FAA Headquarters Building, 800 Independence Avenue, SW., Washington, DC 20591; or

2. The FAA Regional Office of the region in which the affected airport is located.

By Subscription

Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR part 97

Air traffic control, Airports, Navigation (air).

Issued in Washington, DC on February 15, 2002.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 106(g), 40103, 40113, 40120, 44701; and 14 CFR 11.49(b)(2).

2. Part 97 is amended to read as follows:

§§ 97.23, 97.25, 97.27, 97.29, 97.31, 97.33 and 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective April 18, 2002

Sacramento, CA, Sacramento Mather, VOR RWY 4R, Orig-D

Sacramento, CA, Sacramento Mather, VOR/DME RWY 22L, Orig-D

San Luis Obispo, CA, San Luis Obispo Co-McChesney Field, ILS RWY 11, Amdt 1

Santa Ana, CA, Santa Ana/John Wayne Airport-Orange County, NDB RWY 1L, Amdt 1B

Santa Ana, CA, Santa Ana/John Wayne Airport-Orange County, NDB RWY 19R, Amdt 1A

Santa Maria, CA, Santa Maria Public/Captain G. Allen Hancock Field, RNAV (GPS) RWY 12, Orig

Santa Maria, CA, Santa Maria Public/Captain G. Allen Hancock Field, VOR RWY 12, Amdt 14

Atlanta, GA, Peachtree City-Falcon Field, LOC BC RWY 13, Amdt 2B, CANCELLED

Pittsfield, IL, Pittsfield Penstone Muni, VOR/DME RWY 13, Amdt 4

Pittsfield, IL, Pittsfield Penstone Muni, NDB RWY 31, Amdt 6

Pittsfield, IL, Pittsfield Penstone Muni, RNAV (GPS) RWY 13, Orig

Pittsfield, IL, Pittsfield Penstone Muni, RNAV (GPS) RWY 31, Orig

Manhattan, KS, Manhattan Regional, VOR RWY 3, Amdt 17C

Minneapolis, MN, Minneapolis-St. Paul/Wold-Chamberlain, ILS PRM RWY 12L

(SIMULTANEOUS CLOSE PARALLEL), Amdt, 3C

Minneapolis, MN, Minneapolis-St. Paul/Wold-Chamberlain, ILS PRM RWY 12R

(SIMULTANEOUS CLOSE PARALLEL), Amdt, 2D

Minneapolis, MN, Minneapolis-St. Paul/Wold-Chamberlain, ILS PRM RWY 30L

(SIMULTANEOUS CLOSE PARALLEL), Amdt, 4B

Minneapolis, MN, Minneapolis-St. Paul/Wold-Chamberlain, ILS PRM RWY 30R

(SIMULTANEOUS CLOSE PARALLEL), Amdt, 5C

Warren, MN, Warren Muni, RNAV (GPS) RWY 30, Orig

Winona, MN, Winona Muni-Max Conrad Fld, VOR-A, Amdt 13

Winona, MN, Winona Muni-Max Conrad Fld, VOR RWY 29, Amdt 16

Winona, MN, Winona Muni-Max Conrad Fld, RNAV (GPS) RWY 29, Orig

Winona, MN, Winona Muni-Max Conrad Fld, GPS RWY 29, Amdt 1A

Lakewood, NJ, Lakewood, VOR RWY 6, Amdt 6

Lakewood, NJ, Lakewood, RNAV (GPS) RWY 6, Orig

Lakewood, NJ, Lakewood, GPS RWY 6, Orig, CANCELLED

Lakewood, NJ, Lakewood, RNAV (GPS) RWY 24, Orig

Lakewood, NJ, Lakewood, GPS RWY 24, Orig, CANCELLED

Jamestown, NY, Chautauqua County/Jamestown, VOR/DME RWY 7, Amdt 4

Jamestown, NY, Chautauqua County/Jamestown, VOR RWY 25, Amdt 8

Jamestown, NY, Chautauqua County/Jamestown, ILS RWY 25, Amdt 6

Jamestown, NY, Chautauqua County/Jamestown, RNAV (GPS) RWY 7, Orig

Jamestown, NY, Chautauqua County/Jamestown, RNAV (GPS) RWY 13, Orig

Jamestown, NY, Chautauqua County/Jamestown, RNAV (GPS) Y RWY 25, Orig

Jamestown, NY, Chautauqua County/Jamestown, RNAV (GPS) Z RWY 25, Orig

Jamestown, NY, Chautauqua County/Jamestown, RNAV (GPS) RWY 31, Orig

Jamestown, NY, Chautauqua County/Jamestown, VOR/DME RNAV OR GPS RWY 13, Amdt 3, CANCELLED

Jamestown, NY, Chautauqua County/Jamestown, VOR/DME RNAV OR GPS RWY 31, Amdt 2A, CANCELLED

Ocracoke, NC, Ocracoke Island, RNAV (GPS) RWY 6, Orig

Ocracoke, NC, Ocracoke Island, RNAV (GPS) RW 24, Orig

Jackson, OH, James A. Rhodes, RNAV (GPS) RWY 1, Orig

Jackson, OH, James A. Rhodes, RNAV (GPS) RWY 19, Orig

Allentown, PA, Lehigh Valley Intl, VOR/DME RWY 24, Orig, CANCELLED

Bedford, PA, Bedford County, GPS RWY 14, Orig-C

Galeton, PA, Cherry Springs, VOR/DME-A, Orig-A

Philadelphia, PA, Philadelphia Intl, ILS RWY 27L, Amdt 12A

Philadelphia, PA, Philadelphia Intl, ILS PRM RWY 26, Amdt 1B (Simultaneous Close Parallel)

Philadelphia, PA, Philadelphia Intl, ILS PRM RWY 27L, Amdt 1B (Simultaneous Close Parallel)

Philadelphia, PA, Philadelphia Intl, COPTER ILS RWY 17, Orig-B, CANCELLED

Roosevelt, UT, Roosevelt Muni, VOR/DME RNAV RWY 25, Amdt 2

Roosevelt, UT, Roosevelt Muni, VOR OR GPS-A, Amdt 3

Roosevelt, UT, Roosevelt Muni, GPS RWY 25, Orig, CANCELLED

Roosevelt, UT, Roosevelt Muni, RNAV (GPS) RWY 25, Orig

Vernal, UT, Vernal, VOR RWY 34, Amdt 8

Vernal, UT, Vernal, RNAV (GPS) RWY 34, Orig

Melfa, VA, Accomack County, VOR/DME RWY 3, Amdt 1

Melfa, VA, Accomack County, LOC RWY 3, Orig

Melfa, VA, Accomack County, NDB RWY 3, Orig

Melfa, VA, Accomack County, NDB RWY 3, Amdt 8A, CANCELLED

Melfa, VA, Accomack County, RNAV (GPS) RWY 3, Orig

Fort Bridger, WY, Fort Bridger, VOR RWY 22, Amdt 2

Fort Bridger, WY, Fort Bridger, RNAV (GPS) RWY 22, Orig

The FAA published the following procedure in Docket No. 30290, Amdt. No. 2088 to Part 97 of the Federal Aviation Regulations (Vol. 67 FR No. 17 Page 3612: dated January 25, 2002) under section 97.23 effective 18 April 2002 is hereby rescinded.

Tecumseh, MI, Meyers-Diver's, VOR OR GPS-A, Amdt 7

The FAA published an Amendment in Docket No. 30293, Amdt. No. 2091 to Part 97 of the Federal Aviation Regulations (Vol 67 FR No. 28 Page 6167: dated February 11, 2002) under section 97.33 effective 21 March 2002, which is hereby amended as follows:

Warren, MN, Warren Muni, RNAV (GPS) RWY 30, Orig is hereby effective 18 April 2002.

Note: The FAA published the following procedure in Docket No. 30293, Amdt. No. 2091 to Part 97 of the Federal Aviation Regulations (Vol. 67, FR No. 28, Page 6167; dated Monday, February 11, 2002) under section 97.23, 97.33 effective December 27, 2001 is hereby rescinded.

Springfield, MO, Springfield-Branson Regional, VOR/DME OR TACAN RWY 2, Orig is hereby rescinded.

Springfield, MO, Springfield-Branson Regional, RNAV (GPS) RWY 32, Orig is hereby rescinded.

[FR Doc. 02-4287 Filed 2-25-02; 8:45 am]

BILLING CODE 4910-13-M